DEPARTMENT OF COMMERCE

International Trade Administration

[C-122-839]

Certain Softwood Lumber Products From Canada: Extension of Time Limit for Preliminary Determination in Countervailing Duty Investigation

AGENCY: Import Administration, International Trade Administration, Department of Commerce.

ACTION: Notice of additional extension of time limit for preliminary determination in countervailing duty investigation.

SUMMARY: The Department of Commerce (the Department) is extending the time limit of the preliminary determination in the countervailing duty (CVD) investigation of certain softwood lumber products from Canada from July 27, 2001, until no later than August 9, 2001. This extension is made pursuant to section 703(c)(1)(B) of the Tariff Act of 1930, as amended by the Uruguay Round Agreements Act.

EFFECTIVE DATE: July 27, 2001.

FOR FURTHER INFORMATION CONTACT: Eric B. Greynolds at (202) 482-6071, Office of AD/CVD Enforcement VI, Group II, Import Administration, International Trade Administration, U.S. Department of Commerce, 14th Street and Constitution Avenue, NW., Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the regulations codified at 19 CFR part 351 (2000).

Extension of Due Date for Preliminary Determination

On April 23, 2001, the Department initiated the CVD investigation of certain softwood lumber products from Canada. See Notice of Initiation of Countervailing Duty Investigation: Certain Softwood Lumber Products from Canada, 66 FR 21332 (April 30, 2001). On June 5, 2001, the Department found that this investigation was extraordinarily complicated pursuant to section 703(c)(1)(B) of the Act and extended the due date of the preliminary determination. See Certain Softwood Lumber Products From Canada: Extension of Time Limit for Preliminary Determination in Countervailing Duty Investigation, 66 FR 31617 (June 12, 2001) (Extension Notice). In the Extension Notice, we stated that we were extending the due date only for an additional 30 days rather than the full 65 days (see section 703(c)(1)(B) of the Act). However, we have now determined to take an additional 13 days, as permitted under the statue, to issue this preliminary determination. Therefore, we are extending the due date for the preliminary determination to August 9, 2001. The bases for our decision to take an additional 13 days are the same as set forth in the original extension notice (see Extension Notice) as well as our need to ensure that the complex and voluminous information submitted to the Department can be fully analyzed. Accordingly, we continue to find this investigation to be extraordinarily complicated and determine that additional time is necessary to issue the preliminary determination. Therefore, pursuant to section 703(c)(1)(B) of the Act, we are postponing the preliminary determination in this investigation to no later than August 9, 2001.

This notice is issued and published pursuant to section 703(c)(2) of the Act.

Dated: July 23, 2001.
Faryar Shirzad,
Assistant Secretary for Import Administration.

[FR Doc. 01-18811 Filed 7-26-01; 8:45 am]

BILLING CODE 3510-DS-P